DEPARTMENT OF LABOR

Employment and Training Administration

[TA-W-56,143]

Tee Jays Manufacturing Company, Inc., Florence, AL; Notice of Termination of Investigation

Pursuant to section 221 of the Trade Act of 1974, as amended, an investigation was initiated on December 6, 2004, in response to a petition filed by a company official on behalf of workers at Tee Jays Manufacturing Company, Inc., Florence, Alabama.

The petitioner has requested that the petition be withdrawn. Consequently, the investigation has been terminated.

Signed in Washington, DC, this 19th day of January, 2005.
Elliott S. Kushner,
Certifying Officer, Division of Trade Adjustment Assistance.

[FR Doc. E5-699 Filed 2-22-05; 8:45 am]

BILLING CODE 4510-30-P